DEPARTMENT OF DEFENSE

Office of the Secretary

[Transmittal No. 22-0N]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(5)(C) arms sales notification is published to fulfill the requirements of section 155 of Public Law 104-164 dated July 21, 1996. The following is a copy of a letter to the Speaker of the House of Representatives with attached Transmittal 22-0N.

Dated; July 29, 2024.
Patricia L. Toppings,
OSD Federal Register Liaison Officer, Department of Defense.

BILLING CODE 6001-FR-P

BILLING CODE 6001-FR-C

Transmittal No. 22-0N

REPORT OF ENHANCEMENT OR UPGRADE OF SENSITIVITY OF TECHNOLOGY OR CAPABILITY (SEC. 36(B)(5)(C), AECA)

(i) Purchaser: Government of Lithuania

(ii) Sec. 36(b)(1), AECA Transmittal No.: 19-46

Date: August 27, 2019

Implementing Agency: Army

Funding Source: National Funds

(iii) Description: On August 27, 2019, Congress was notified by Congressional certification transmittal number 19-46, of the possible sale, under Section 36(b)(1) of the Arms Export Control Act, of five hundred Joint Light Tactical Vehicles, M1278Al Heavy Guns Carriers. Also included were Baseline Integration Kits; Ballistic Kits Armor; Explosive Formed Protection Kit; Shot Detection Boomerang Kits; Shot Detection, Boomerang III; GPS Stand Alone kits; Network Switch- 8 port; M153 Common Remote Weapon Stations (CROWS); CROWS Baseline v2 Integration Kit; MK-93 Weapons Mounts; M2 QCB .50 CAL Machine Guns; M230 TAC-FLIR Systems; Opaque Armor (windows); Basic Issue Item Kits; Winch Kits; Flat Tow Kits; Run-Flat Kits; Spare Tire Kits; Combat Bumper Kits; Duramax Turbo Engine with Allison 6 speed automatic transmission and 4x4 TAK-4i Independent suspension systems; personnel training and training equipment; U.S. Government and contractor engineering, technical and logistics support services; and other related elements of logistical and program support. The estimated total cost was $170.8 million. Major Defense Equipment (MDE) constituted $147 million of this total.

This transmittal reports increases in MDE value by $100 million to $247 million and non-MDE value by $141.2 million to $165 million for the previously notified Joint Light Tactical Vehicles (JLTVs). This will result in an overall total case value increase of $241.2 million to $412 million.

(iv) Significance: Recent Joint Light Tactical Vehicle (JLTV) cost increases have brought about the need to add value to the original notification. The sale of associated equipment and services will significantly enhance this NATO partner's ability to counter threats posed by armored and hardened targets, greatly increasing NATO's overall security.

(v) Justification: This proposed sale will support the foreign policy and national security objectives of the United States by helping to improve the military capability of a NATO Ally that is an important force for ensuring political stability and economic progress within Eastern Europe.

(vi) Sensitivity of Technology: The Sensitivity of Technology statement contained in the original notification applies to items reported here.

The highest level of classification of defense articles, components, and services included in this potential sale is UNCLASSIFIED.

(vii) Date Report Delivered to Congress: September 23, 2022

[FR Doc. 2024-17040 Filed 8-1-24; 8:45 am]

BILLING CODE 6001-FR-P